GENERAL SERVICES ADMINISTRATION

Establishment of a Transaction Fee for Transportation Services Provided for the GSA, Office of Global Supply

AGENCY: Federal Supply Service, GSA.

ACTION: Final Notice

SUMMARY: GSA is amending the Freight Management Program (FMP), Standard Tender of Service (STOS), to incorporate a 4% transaction fee for transportation services provided for the GSA, Office of Global Supply. Transportation Service Providers (TSPs) will be required to remit a 4% transaction fee to GSA on a quarterly basis.

DATES: The effective date is January 1, 2007.

FOR FURTHER INFORMATION CONTACT: Ms. Mary Anne Sykes, Transportation Programs Branch, by telephone at 703-605-2889 or by e-mail at transportation.programs@gsa.gov.

SUPPLEMENTARY INFORMATION: The final notice is applicable to the Freight Management Program (FMP), Standard Tender of Service (STOS), for transportation services provided to the Eastern Distribution Center (EDC), Burlington, NJ; Western Distribution Center (WDC), French Camp, CA; and the National Industries for the Blind (NIB) and NISH. It applies to all transportation service providers (TSPs) transporting these shipments. The final notice and implementation procedures take into account the comments received from transportation service providers (TSPs) in response to the notices published in the Federal Register at 70 FR 73248 on December 9, 2005, and an extension to that notice at 70 FR 76455 on December 27, 2005, soliciting comments on the establishment of a 4% transaction fee for transportation services provided for the GSA, Office of Global Supply. GSA published the response to the comments on the proposed rule in the Federal Register at 71 FR 38403 on July 6, 2006.

The Transportation Management Services Solution (TMSS) pre-payment audit and payment modules will be operational by November 2006. GSA will start a phased-in implementation plan for the pre-payment audit and payment modules in November 2006. TSPs that provide transportation services for GSA, Global Supply, will be required to submit all invoices in TMSS either manually or via electronic data interchange (EDI).

GSA will assess the 4% fee effective January 1, 2007, to ensure that the TMSS implementation phase is complete. TSPs will be required to remit the 4% fee for transportation invoices paid after December 31, 2006, directly to GSA quarterly instead of deducting the 4% fee from each invoice via TMSS prior to payment. TSP’s will be able to access TMSS to generate a quarterly report that lists each transaction, total transportation charges, and transaction fee. The first remittance will be due for the quarter ending March 31, 2007.

Dated: August 22, 2006.
Susan T. May,
Acting Director, Travel and Transportation Management Division (FBL), GSA.

[FR Doc. E6-14179 Filed 8-24-06; 8:45 am]

BILLING CODE 6820-89-S